DEPARTMENT OF JUSTICE

Antitrust Division

Notice Pursuant to the National Cooperative Research and Production Act of 1993—the National Advanced Mobility Consortium (Formerly Robotics Technology Consortium, Inc.)

Notice is hereby given that, on June 2, 2016, pursuant to section 6(a) of the National Cooperative Research and Production Act of 1993, 15 U.S.C. 4301 et seq. (“the Act”), Robotics Technology Consortium, Inc. (“RTC”) has filed written notifications simultaneously with the Attorney General and the Federal Trade Commission disclosing changes in its membership. The notifications were filed for the purpose of extending the Act's provisions limiting the recovery of antitrust plaintiffs to actual damages under specified circumstances. Robotics Technology Consortium, Inc., has changed its name to The National Advanced Mobility Consortium (“NAMC”). Specifically, Abaco Systems, Inc. (formerly GE Intelligent Platforms Embedded Systems), Huntsville, AL; ABS USA, LLC, Sterling Heights, MI; Ace Electronics Defense Systems, LLC, Troy, MI; Achates Power, Inc., San Diego, CA; Acquisition Technologies Integrated, Inc., Williamsburg, PA; ADA Technologies, Inc., Littleton, CO; Agile Communications, Inc., Thousand Oaks, CA; Alcoa Defense, Inc., New Kensington, PA; Alion Science and Technology, Warren, MI; Allison Transmission, Inc., Indianapolis, IN; AlphaUSA, Livonia, MI; Altair Product Design, Inc., Troy, MI; Altex Technologies Corporation, Sunnyvale, CA; American Rheinmetall Munitions, Inc., Stafford, VA; AM General, LLC, Livonia, MI; AmSafe, Inc., Phoenix, AZ; Analysis & Design Application Co. Ltd., Melville, NY; AnthroTronix, Inc., Silver Spring, MD; Applied Minds, LLC, Glendale, CA; Applied Research Associates, Inc., Albuquerque, NM; Applied Technology Integration, Inc., Maumee, OH; Artis, LLC, Herndon, VA; Association for Unmanned Vehicle Systems International (AUVSI), Arlington, VA; ATA Engineering, Inc., San Diego, CA; ATI Inc. (Alloy Technology Innovations, Inc.), Lexington, KY; Atlas Scientific, LLC, Brooklyn, NY; August Research Systems, Inc., Coraopolis, PA; Automation Alley Business Services, Sterling Heights, MI; Automotive Rentals, Inc., Mount Laurel, NJ; Avittor International Corp, Sterling Heights, MI; AVL Powertrain Engineering, Inc., Plymouth, MI; Badenoch, LLC, Southfield, MI; Battelle Memorial Institute, Dover, NJ; Baum Romstedt Technology Research Corp., Fairfax, VA; Bokam Engineering, Inc., Santa Ana, CA; Bren-Tronics, Inc., Commack, NY; CALIBRE Systems, Inc., Alexandria, VA; Caterpillar, Inc., Mossville, IL; Clemson University—College of Engineering and Science, Clemson, SC; CLogic Defense, Paramus, NJ; Coliant Corporation, Warren, MI; Combat Advanced Propulsion, LLC, Muskegon, MI; Control Point Corporation, Goleta, CA; Corvid Technologies, Mooresville, NC; Cougaar Software, Inc., Vienna, VA; CPS Technologies Corporation, Norton, MA; Creative Electronic Systems North America, Inc., Apex, NC; Critical Solutions International, Inc., Richland, MO; CrossTek Solutions LLC, Vicksburg, MS; Cummins, Inc., Columbus, IN; Curtiss-Wright Controls Electronic Systems, Inc., Santa Clarita, CA; DCS Corporation, Alexandria, VA; Defense Engineering Services, LLC, Charleston, SC; Design West Technologies, Inc., Tustin, CA; DHPC Technologies, Inc., Woodbridge, NJ; Domo Tactical Communications DTC (formerly Cobham Surveillance), Washington, DC; DomerWorks, Ltd., Grand Rapids, MI; DRS Network & Imaging Systems, LLC, Dallas, TX; DRS Sustainment Systems, Inc., St. Louis, MO; Dynamic Dimension Technologies, LLC, Westminster, MD; Dynetics, Inc., Huntsville, AL; eTrans Systems, Fairfax, VA; EaglePicher Technologies, Joplin, MO; Eck Industries, Inc., Manitowoc, WI; EDAG, Inc., Troy, MI; Efficient Drivetrains, Inc., Boulder, CO; Elbit Systems of America, LLC, Fort Worth, TX; Electro-Mechanical Associates, Inc., Ann Arbor, MI; Elevate Systems, San Antonio, TX; ELTA North America, Inc., Fulton, MD; EWI, Columbus, OH; Excel Engineering, Diagonal, IA; Exponent, Inc., Menlo Park, CA; Fastpilot, Inc., Lake in the Hills, IL; FBS, Inc., State College, PA; FEDITC, LLC, San Antonio, TX; FEV North America, Inc., Auburn Hills, MI; Flash Bainite, Washington, MI; General Dynamics Land Systems, Sterling Heights, MI; General Dynamics-OTS, Inc., Williston, VT; Global Embedded Technologies, Inc., Farmington Hills, MI; Global Technology Associates, Ltd., Dearborn, MI; GPS Source, Inc., Pueblo West, CO; Gravikor, Inc., Ann Arbor, MI; Great Lakes Sound & Vibration, Inc., Houghton, MI; Great Lakes Systems & Technology, LLC, Chesterfield Township, MI; Green Hills Software, Inc., Santa Barbara, CA; GS Engineering, Houghton, MI; Gunite Corporation (Accuride Corporation), Rockford, IL; Harbrick, Moscow, ID; HBM nCode Federal, LLC, Southfield, MI; Hendrick Motorsports Performance Group, Charlotte, NC; Honeywell International, Phoenix, AZ; Horstman Incorporated, Sterling Heights, MI; Hutchinson Industries, Inc., Trenton, NJ; Hydroid, Inc., Pocasset, MA; IAV Automotive Engineering, Inc., Northville, MI; IGNIO LLC, Bloomfield Hills, MI; Iguana Technology LLC, Tillamook, OR; IMSolutions, LLC, Dumfries, VA; Induct Technology, Inc., Boca Raton, FL; Infinite Technologies, Inc., Folsom, CA; Inmatech, Inc., Ann Arbor, MI; InnoVital Systems, Inc., Beltsville, MD; Integrated Solutions for Systems, Inc., Huntsville, AL; Intelligent Automation, Inc., Rockville, MD; Intertek Testing Services NA, LLC, Cortland, NY; J.G.W. International Ltd., Reston, VA; John H. Northrop & Associates, Inc., Burke, VA; Johns Hopkins University Applied Physics Laboratory, Laurel, MD; Kairos Autonomi, Inc., Sandy, UT; Kalmar Rough Terrain Center, Cibolo, TX; Kutta Technologies, Inc., Phoenix, AZ; L-3 Interstate Electronics Corporation, Anaheim, CA; L-3 Mustang Technology, Plano, TX; Leidos, Arlington, TX; Lentix, Inc., Powell, TN; Lionbridge, Sterling Heights, MI; Loc Performance Products, Plymouth, MI; Logikos, Inc., Fort Wayne, IN; Lotus Engineering, Inc., Ann Arbor, MI; LSA Autonomy, Westminster, MD; Lucid Dimensions, Inc., Lafayette, CO; Lynntech, Inc., College Station, TX; M3 Consulting Services, Inc., Washington, MI; MAHLE Powertrain, LLC, Farmington Hills, MI; Materials Sciences Corporation, Horsham, PA; Mattracks, Inc., Karlstad, MN; M Cubed Technologies, Inc., Newtown, CT; MDA US Systems, LLC, Pasadena, CA; Mechanical Solutions, Inc., Whippany, NY; Med-Eng, LLC, Bismarck, ND; Meldetech, Princeton, NJ; Merrill Aviation & Defense, Troy, MI; MetaMorph Inc., Nashville, TN; Micro Systems, Inc., Ft. Walton Beach, FL; MillenWorks, Tustin, CA; Milton Manufacturing, Detroit, MI; Milwaukee School of Engineering, Milwaukee, WI; Mistral, Inc., Bethesda, MD; Motiv Space Systems, Inc., Pasadena, CA; Munro & Associates, Inc., Auburn Hills, MI; N&R Engineering and Management Services Corporation, Parma Heights, OH; National Technical Systems, Inc., Hot Springs, AR; Navitas Advanced Solutions Group, LLC, Ann Arbor, MI; Near Earth Autonomy, Inc., Pittsburgh, PA; NetCentric Technology, LLC, Wall, NJ; Nevada Automotive Test Center (NATC), Silver Springs, NV; New Eagle Consulting, LLC, Ann Arbor, MI; Nexus Energy, Mobility and Cleantech, LLC, Raleigh, NC; NextEnergy Center, Detroit, MI; Nhungs Notions, Saugus, MA; Northrop Grumman Information Systems, Huntsville, AL; OpenJAUS, LLC, Allison Park, PA; Orbital ATK (formerly Alliant Techsystems ATK), Tucson, AZ; Plasan North America, Bennington, VT; PPG Industries, Inc., Allison Park, PA; Primal Innovation, LLC, Lake Mary, FL; Primus Solutions, Inc., Colorado Springs, CO; Protection Engineering Consultants, LLC, San Antonio, TX; QinetiQ, Inc., Centerville, VA; Quantum Fuel Systems Technologies Worldwide, Inc., Lake Forest, CA; Quantum Signal, LLC, Saline, MI; RCR Manufacturing Solutions, LLC, Lexington, NC; REL, Inc., Calumet, MI; Research Foundation of the City University of New York (City College of New York), New York, NY; Ricardo Defense Systems, Inc., Van Buren Township, MI; Robertson Fuel Systems LLC, Tempe, AZ; Rose-A-Lee Technologies, Inc., Sterling Heights, MI; Roush Industries, Inc., Livonia, MI; S&K Global Solutions, LLC, Polson, MT; Saab Defense and Security USA LLC, Sterling, VA; Safe, Inc., Tempe, AZ; Saft America, Inc., Cockeysville, MD; SAPA Transmission, Inc., Deerfield Beach, FL; Science Applications International Corp (SAIC), McLean, VA; Seemann Composites, Inc., Gulfport, MS; Select Engineering Services, Layton, UT; SIFT, LLC, Minneapolis, MN; SimaFore, LLC, Ann Arbor, MI; Sirab Technologies, Inc., Novato, CA; Sound Answers, Inc., Canton, MI; South Dakota School of Mines and Technology, Rapid City, SD; Spatial Integrated Systems, Inc., Kinston, NC; Specialty Tooling Systems, Inc., Grand Rapids, MI; SpringActive, Inc., Tempe, AZ; Stark Aerospace, Columbus, MS; Stryke Industries, LLC, Fernandina Beach, FL; SURVICE Engineering Company, LLC, Warren, MI; Survivability Solutions, LLC, Sterling Heights, MI; Systems Process, Inc., Fort Wayne, IN; T.E.A.M., Inc., Woonsocket, RI; Team O'Neil Rally School LLC, Dalton, NH; Technical Professional Services, Inc., Wayland, MI; Technology and Supply Management, LLC, Fairfax, VA; Tencate Advanced Armor Design, Inc., Goleta, CA; Texas Research Institute, Austin, TX; The Boeing Company, Huntington Beach, CA; The Energetics Technology Center, Inc. (ETC), St. Charles, MD; The Omnicon Group, Inc., Hauppauge, NY; Troika Solutions, LLC, Arlington, VA; Tyco Electronics Corporation, Berwyn, PA; UnderSea Sensor Systems, Inc. (formerly Ultra Electronics, AMI), Columbia City, IN; Unified Business Technologies, Inc., Troy, MI; Universal Technical Resource Services, Inc., Cherry Hill, NJ; University of Delaware Center for Composite Materials, Newark, DE; University of Wisconsin-Milwaukee, Milwaukee, WI; UTC Aerospace Systems-Goodrich, Charlotte, NC; Venture Management Services, LLC, Troy, MI; Veyance Technologies, Inc., St. Marys, OH; VRC Metal Systems, LLC, Rapid City, SD; VSE Corporation, Alexandria, VA; Waltonen Engineering, Inc., Warren, MI; and Wartech Engineering, LLC, Saline, MI, have been added as parties to this venture.

Also, 5D Robotics, Inc., Carlsbad, CA; Alliant Techsystems (ATK), Arlington, VA; American Reliance, Inc., El Monte, CA; Black-I Robotics, Inc., Tyngsboro, MA; Bolduc Technology Group, LLC, Augusta, ME; C-21, Inc., Stow, MA; Coherent Logix, Inc., Austin, TX; Delta Tau Data Systems, Inc., Chatsworth, CA; Dragonfly Pictures, Inc., Essington, PA; Edge Robotics Inc., Pittsburgh, PA; Energid Technologies Corporation, Cambridge, MA; Humanistic Robotics, Inc., Philadelphia, PA; Insitu, Inc., Bingen, WA; Integrated Microwave Technologies, LLC, Mount Olive, NJ; Kraft TeleRobotics, Inc., Overland Park, KS; Macro USA, Roseville, CA; Michigan State University, East Lansing, MI; Mobile Intelligence Corporation, Livonia, MI; Pelican Mapping, Fairfax, VA; Photon-X, LLC, Kissimmee, FL; PNI Sensor Corporation, Santa Rosa, CA; Quantum 3D, Inc., San Jose, CA; Rehg Enterprises, Pearl River, NY; Robotic Technology, Inc., Washington, DC; Seegrid Corporation, Pittsburgh, PA; Segway Robotics, Bedford, MA; Sikorsky Aircraft Corporation, Stratford, CT; TDC Acquisition Holdings, Inc., Huntsville, AL; Tech Wise, Colorado Springs, CO; Telefactor Robotics, LLC, West Conshohocken, PA; Texas A&M University, San Antonio, TX; University of Arizona, Tucson, AZ; University of Louisiana at Lafayette, Lafayette, LA; University of Pennsylvania, Philadelphia, PA; Wayne State University—College of Engineering, Detroit, MI; and Workhorse Technologies, LLC, Pittsburgh, PA, have withdrawn as parties to this venture.

No other changes have been made in either the membership or planned activity of the group research project. Membership in this group research project remains open, and NAMC intends to file additional written notifications disclosing all changes in membership.

On October 15, 2009, RTC filed its original notification pursuant to section 6(a) of the Act. The Department of Justice published a notice in the Federal Register pursuant to section 6(b) of the Act on November 30, 2009 (74 FR 62599).

The last notification was filed with the Department on March 25, 2014. A notice was published in the Federal Register pursuant to section 6(b) of the Act on April 30, 2014 (79 FR 24450).

Patricia A. Brink,
Director of Civil Enforcement, Antitrust Division.

[FR Doc. 2016-15969 Filed 7-5-16; 8:45 am]

BILLING CODE P